DEPARTMENT OF JUSTICE

Notice of Lodging of Proposed First Modification of The Consent Decree Under The Clean Air Act

On August 25, 2020, the Department of Justice lodged a proposed First Modification of the Consent Decree (First Modification) with the United States District Court of the Virgin Islands Division of St. Croix in the lawsuit entitled United States of America and the United States Virgin Islands v. HOVENSA L.L.C., Civil Action Nos. 1:11-cv-00006. The proposed First Modification modifies the Consent Decree approved by the Court on June 7, 2011 (June 2011 Consent Decree) resolving claims by the United States and the United States Virgin Islands against HOVENSA L.L.C. for alleged violations of Section 113(b) of the Clean Air Act, 42 U.S.C. 7413(b) and territorial law. Under the original Consent Decree, HOVENSA L.L.C. agreed to substantially reduce emissions of nitrogen oxides (NOX), sulfur dioxide (SO2), volatile organic compounds, and benzene from the refinery.

On September 15, 2015, HOVENSA L.L.C. filed for bankruptcy under Chapter 11 of the U.S. Bankruptcy Code in District Court of the U.S. Virgin Islands, Bankruptcy Division—St. Croix, Virgin Islands. See, bankruptcy proceeding entitled In re HOVENSA L.L.C.., No. 1-15-10003-MFW. As part of the bankruptcy proceeding, Limetree Bay Terminals, LLC purchased certain assets from HOVENSA L.L.C. that are subject to the June 2011 Consent Decree. As part of the bankruptcy, an Environmental Response Trust was established and assumed some of HOVENSA L.L.C.'s 2011 Consent Decree obligations. Subsequent to that purchase, Limetree Bay Terminals, LLC transferred certain assets to Limetree Bay Refining, LLC.

Paragraph 7 of the 2011 Consent Decree requires HOVENSA L.L.C. to condition any transfer of ownership or operation of the refinery “upon the execution by the transferee of a modification to this Consent Decree, which makes the terms and conditions of this Consent Decree applicable to the transferee.” Under the proposed First Modification, Limetree Bay Terminals, LLC, Limetree Bay Refining, LLC and the Environmental Response Trust are being added as parties to the Consent Decree. The proposed First Modification also makes changes to some of the deadlines and injunctive relief obligations required by the 2011 Consent Decree.

The Department of Justice will receive, for a period of thirty (30) days from the date of this publication, comments relating to the First Modification. Comments should be addressed to the Assistant Attorney General for the Environmental and Natural Resources Division, and should refer to United States, et al. v. HOVENSA L.L.C., Civil Action No. 1:11-cv-00006, D. J. Ref. No. 90-5-2-1-08229/1. All comments must be submitted no later than thirty days after the publication date of this notice. Comments may be submitted either by email or by mail:

To submit comments: | Send them to:
By e-mail | pubcomment-ees.enrd@usdoj.gov
By mail | Assistant Attorney General, U.S. DOJ—ENRD, P.O. Box 7611, Washington, D.C. 20044-7611.

During the public comment period, the First Modification may be examined and downloaded at this Department of Justice website: http://www.justice.gov/enrd/consent-decrees. We will provide a paper copy of the First Modification upon written request and payment of reproduction costs. Please mail your request and payment to: Consent Decree Library, U.S. DOJ—ENRD, P.O. Box 7611, Washington, DC 20044-7611.

Please enclose a check in the amount of $39.50 (25 cents per page reproduction cost) payable to the United States Treasury.

Susan M. Akers,
Assistant Section Chief, Environmental Enforcement Section, Environment & Natural Resources Division.

[FR Doc. 2020-19160 Filed 8-28-20; 8:45 am]

BILLING CODE 4410-15-P